DEPARTMENT OF THE TREASURY

Office of Foreign Assets Control

Unblocking of Specially Designated Nationals and Blocked Persons Pursuant to Executive Order 13224

AGENCY: Office of Foreign Assets Control, Treasury.

ACTION: Notice.

SUMMARY: The Treasury Department's Office of Foreign Assets Control (“OFAC”) is removing the name of two entities and one individual from the list of Specially Designated Nationals and Blocked Persons whose property and interests in property have been blocked pursuant to Executive Order 13224 of September 23, 2001, Blocking Property and Prohibiting Transactions With Persons Who Commit, Threaten To Commit, or Support Terrorism. The entities: BARAKAAT INTERNATIONAL and BARAKAAT INTERNATIONAL FOUNDATION, were designated pursuant to Executive Order 13224 on November 7, 2001 and the individual: PATRICIA VINCK, was designated pursuant to Executive Order 13224 on January 22, 2003.

DATES: The removal from the list of Specially Designated Nationals and Blocked Persons of the two entities and one individual whose property and interests in property have been blocked pursuant to Executive Order 13224 is effective as of November 3, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional individuals or entities determined to meet certain criteria set forth in Executive Order 13224.

Two such additional entities were designated by the Secretary of the Treasury on November 7, 2001 and one additional individual was designated by the Secretary of the Treasury on January 22, 2003. The Department of the Treasury's Office of Foreign Assets Control has determined that the two entities and one individual should be removed from the list of Specially Designated Nationals and Blocked Persons.

The following entities and individual are removed from the list of Specially Designated Nationals and Blocked Persons:

1. BARAKAAT INTERNATIONAL, Hallbybacken 15, Spanga 70, Sweden [SDGT]

2. BARAKAAT INTERNATIONAL FOUNDATION, Rinkebytorget 1, Spanga 04, Sweden; P.O. Box 4036, Spanga, Sweden [SDGT]

3. VINCK, Patricia (a.k.a. VINCK, Souraya P.), 69 Rue des Bataves, 1040 Etterbeek, Brussels, Belgium; Vaatjesstraat, 29, Putte 2580, Belgium; DOB 04 Jan 1965; POB Antwerp, Belgium (individual) [SDGT]

The removal of the two entities' and individual's names from the list of Specially Designated Nationals and Blocked Persons is effective as of November 3, 2009. All property and interests in property of the two entities and one individual that are in or hereafter come within the United States or the possession or control of United States persons are now unblocked.

Dated: November 3, 2009.
Adam J. Szubin,
Acting Director, Office of Foreign Assets Control.

[FR Doc. E9-27137 Filed 11-10-09; 8:45 am]

BILLING CODE P